DEPARTMENT OF COMMERCE

International Trade Administration

For the Regents of the University of Idaho et al.; Application(s) for Duty-Free Entry of Scientific Instruments

Pursuant to section 6(c) of the Educational, Scientific and Cultural Materials Importation Act of 1966 (Pub. L. 89-651, asamended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before February 8, 2024. Address written comments to Statutory Import Programs Staff, Room 41006, U.S. Department of Commerce, Washington, DC 20230. Please also email a copy of those comments to Dianne.Hanshaw@trade.gov.

Docket Number: 23-017. Applicant: For the Regents of the University of Idaho, 875 Perimeter Drive, MS 2006, Moscow, ID 83844-2006. Instrument: EcoUnit(s).

Manufacturer: Regineering GmbH, Germany. Intended Use: The instrument is intended to be used to study the 24 EcoUnits composing the Deep Soil Ecotron (https://deepsoilecotron.org/) will be used specifically to study deep soils (i.e., soils greater than 30 cm in depth), as well as the associated surface soils (i.e., soils 0-30 cm in depth) and the above ground plant community. The techniques employed will include experimental design that enables researchers through the use of these EcoUnits to precisely manipulate and control a suite of environmental variables controlled by EcoUnits. Additionally, researchers will employ state of the art sensors to monitor soil temperature, moisture, and gas fluxes, as well as plant root growth an morphology, and soil microbial communities via next-generation sequencing. Justification for Duty-Free Entry: According to the applicant, there are no instruments of the same general category manufactured in the United States. Application accepted by Commissioner of Customs: October 20, 2023.

Docket Number: 23-018. Applicant: University of Chicago, 5640 S Ellis Avenue, ERC LL248, Chicago, IL 60637. Instrument: Fiber Laser Amplifier. Manufacturer: PercilLasers, China.Intended Use: The instrument is intended to be used for the laser amplifier in question which will allow us to improve both the quality of Rydberg excitation and the number of atoms which can be simultaneously excited, which in turn will extend the complexity of quantum circuits which can be implemented in this experiment. Large quantum circuits are of fundamental interest in understanding the information complexity of quantum systems and may also enable the study of complex many-body phenomena such as quantum magnetism. Justification for Duty-Free Entry: According to the applicant, there are no instruments of the same general category manufactured in the United States. Application accepted by Commissioner of Customs: September 7, 2023.

Dated: January 12, 2024.
Gregory W. Campbell,
Director, Subsidies and Economic Analysis, Enforcement and Compliance.

[FR Doc. 2024-00987 Filed 1-18-24; 8:45 am]

BILLING CODE 3510-DS-P